DEPARTMENT OF COMMERCE

National Oceanic and Atmospheric Administration

RIN 0648-XG785

South Atlantic Fishery Management Council; Public Meetings

AGENCY: National Marine Fisheries Service (NMFS), National Oceanic and Atmospheric Administration (NOAA), Commerce.

ACTION: Notice of public meetings of the South Atlantic Fishery Management Council.

SUMMARY: The South Atlantic Fishery Management Council (Council) will hold meetings of the following: Information and Education Committee; Snapper Grouper Committee; Dolphin Wahoo Committee; Habitat Protection and Ecosystem-Based Management Committee; Mackerel Cobia Committee; Executive Finance Committee; Advisory Panel (AP) Selection Committee (Closed Session); Southeast Data, Assessment, and Review (SEDAR) Committee; Standard Operating, Policy, and Procedure (SOPPs) Committee (Partially Closed Session), and a Committee of the Whole. The Council meeting week will include a formal public comment period, and a meeting of the full Council.

DATES: The Council meeting will be held from 8:30 a.m. on Monday, March 4, 2019 until 12:30 p.m. on Friday, March 8, 2019.

ADDRESSES:

Meeting address: The meeting will be held at the Westin Jekyll Island, 110 Ocean Way, Jekyll Island, GA 31527; phone: (912) 635-4545; fax: (912) 319-2835.

Council address: South Atlantic Fishery Management Council, 4055 Faber Place Drive, Suite 201, N Charleston, SC 29405.

FOR FURTHER INFORMATION CONTACT: Kim Iverson, Public Information Officer, SAFMC; phone: (843) 302-8440 or toll free: (866) SAFMC-10; fax: (843) 769-4520; email: kim.iverson@safmc.net. Meeting information is available from the Council's website at: http://safmc.net/safmc-meetings/council-meetings/.

SUPPLEMENTARY INFORMATION: Public comment: Written comments may be directed to Gregg Waugh, Executive Director, South Atlantic Fishery Management Council (see Council address) or electronically via the Council's website at http://safmc.net/safmc-meetings/council-meetings/. Comments received by close of business the Monday before the meeting (2/25/19) will be compiled, posted to the website as part of the meeting materials, and included in the administrative record; please use the Council's online form available from the website. For written comments received after the Monday before the meeting (after 2/25/19), individuals submitting a comment must use the Council's online form available from the website. Comments will automatically be posted to the website and available for Council consideration. Comments received prior to noon on Thursday, March 7, 2019 will be a part of the meeting administrative record.

The items of discussion in the individual meeting agendas are as follows:

Information and Education Committee, Monday, March 4, 2019, 8:30 a.m. Until 9 a.m.

The Committee will receive a report from the Information and Education Advisory Panel and provide guidance to staff and take action as necessary.

Snapper Grouper Committee, Monday, March 4, 2019, 9 a.m. Until 12:30 p.m. and Tuesday, March 5, 2019, From 1:30 p.m. Until 5 p.m.

1. The Committee will receive updates from NOAA Fisheries on commercial catches versus quotas for species under annual catch limits (ACLs) and the status of amendments under formal Secretarial review.

2. The Committee will receive an update from NOAA Fisheries on the 2019 red snapper season, discuss and provide guidance.

3. The Committee will review Regulatory Framework Amendment 29 to the Snapper Grouper Fishery Management Plan (FMP) addressing best fishing practices and the use of powerhead gear, and Regulatory Amendment 30 addressing the rebuilding plan for red grouper and provide guidance to staff for the two amendments.

4. The Committee will review Snapper Grouper Amendment 42 addressing sea turtle release gear requirements and Framework modifications, modify as necessary, and consider approval for formal Secretarial review.

5. The Committee will receive an overview of the Wreckfish Individual Transferable Quota (ITQ) Review and provide guidance to staff.

6. The Committee will also receive a presentation from NOAA Fisheries' Southeast Regional Permits Office and review the results of Recreational Workshops, discuss, and take action as needed.

7. The Committee will also review a white paper on spearfishing, provide guidance on agenda items for the Snapper Grouper AP meeting, review outreach materials for the Council's Vision Blueprint for the Snapper Grouper FMP Evaluation, review a Spawning Special Management Report outline, and provide guidance to staff.

Dolphin Wahoo Committee, Monday, March 4, 2019, 2 p.m. Until 5 p.m.

1. The Committee will receive updates from NOAA Fisheries on the status of commercial catches versus quotas.

2. The Committee will review draft Amendment 10 to the Dolphin Wahoo Fishery Management Plan that includes actions to allow bag-limit sales of dolphin by dually-permitted for-hire and commercial permit holders, revising annual catch limits and sector allocations for dolphin and wahoo to accommodate new data from the Marine Recreational Information Program, modifying recreational vessel limits for dolphin and other measures. The Committee will review actions in the draft amendment and consider approving for public scoping.

3. The Committee will review a White Paper on potential Ecosystem Component species and take action as needed.

Habitat Protection and Ecosystem-Based Management Committee, Tuesday, March 5, 2019, 8:30 a.m. Until 12 p.m.

1. The Committee will hold Atlantic Coast-Wide discussions on ways to address species moving northwards along the Atlantic Coast. Discussions will include representatives from the New England Fishery Management Council, Mid-Atlantic Fishery Management Council, and the Atlantic States Marine Fisheries Commission. The Committee will provide guidance to staff and take action as needed.

2. The Committee will receive an update on habitat and ecosystem tools and regional partner coordination, the Council's actions regarding habitat and ecosystems, and provide guidance to staff and take action as needed.

Committee of the Whole, Wednesday, March 6, 2019, 8:30 a.m. Until 12 p.m.

1. The Committee of the Whole will review public scoping comments received for the Acceptable Biological Catch (ABC) Control Rule Amendment, review comments from the Scientific and Statistical Committee (SSC), review the document and approve wording for actions and alternatives.

2. The Committee of the Whole will review public scoping comments received for the Recreational Accountability Measures (AMs) Amendment, review the document and take action as necessary.

3. The Committee of the Whole will review the draft Allocation Review Trigger Policy, provide guidance to staff, and take action as needed.

4. The Committee of the Whole will receive an overview of allocation issues, discuss, and take action as needed.

Mackerel Cobia Committee, Wednesday, March 6, 2019, 1:30 p.m. Until 3:45 p.m.

1. The Committee will receive an update on the status of commercial catches versus ACLs and the status of amendments under review.

2. The Committee will receive an overview of king mackerel commercial trip limits in the Atlantic Southern Zone and Spanish mackerel closures in the Atlantic Northern Zone, discuss management options, and take action as needed.

3. The Committee will review draft Framework Amendment 7 to the Coastal Migratory Pelagic FMP addressing modifications to Gulf of Mexico cobia size limits and take action as needed.

4. The Committee will discuss items for the Mackerel Cobia Advisory Panel to address and provide guidance to staff.

Executive Finance Committee, Wednesday, March 6, 2019, 3:45 p.m. Until 4 p.m. and Thursday, March 7, 2019 From 1:30 p.m. Until 3:45 p.m.

1. The Committee will review the Council's ranking of amendments for its work schedule, receive a status report on the February and May 2019 Council Coordination Committee (CCC) meetings, receive an update on Magnuson-Stevens Act Reauthorization efforts and the CCC Working Paper which includes positions on reauthorization, discuss, and provide guidance to staff.

2. The Committee will review the draft Calendar-Year 2019 Operational Budget and take action as appropriate.

3. The Committee will review the Council's Follow Up Document, Priorities and Tiering List, discuss, and provide guidance to staff.

Formal Public Comment, Wednesday, March 6, 2019, 4 p.m.—Public comment will be accepted on items on the Council meeting agenda scheduled to be approved for Secretarial Review: Snapper Grouper Amendment 42 (sea turtle release gear and Framework procedures) and the Gulf Council's Carry Over Amendment (CMP & Spiny Lobster). Public comment will also be accepted on all agenda items. The Council Chair, based on the number of individuals wishing to comment, will determine the amount of time provided to each commenter.

Advisory Panel Selection Committee (Closed Session), Thursday, March 7, 2019, 8:30 a.m. Until 10 a.m.

1. The Committee will review applicants for open seats on its advisory panels and the System Management Plan Workgroup and provide recommendations for the Council's consideration.

SEDAR Committee, Thursday, March 7, 2019, 10 a.m. Until 11 a.m.

1. The Committee will receive an assessment activities schedule update, an overview of SEDAR Steering Committee guidance, and provide direction to staff and take action as needed.

SOPPs Committee (Partially Closed), Thursday, March 7, 2019, 11 a.m. Until 12 p.m.

1. The Committee will discuss Harassment and Professional Conduct (Closed Session).

2. In open session, the Committee will review and approve proposed changes to the Council Handbook and develop recommendations as appropriate.

Council Session: Thursday, March 7, 2019, 4 p.m. Until 5:30 p.m. and Friday, March 8, 2019, 8:30 a.m. Until 12:30 p.m. (Partially Closed Session if Needed)

The Full Council will begin with the Call to Order, adoption of the agenda, and approval of minutes.

The Council will receive a Legal Briefing on Litigation from NOAA General Counsel (if needed) during Closed Session. The Council will receive staff reports including the Executive Director's Report, updates on the MyFishCount pilot project, Gulf Council Carry Over Amendment, the Council's Citizen Science Program, and a draft letter to NOAA Fisheries Highly Migratory Species stating concerns over the impacts of large coastal sharks on fisheries managed by the Council.

Updates will be provided by NOAA Fisheries including a report on the status of commercial catches versus ACLs for species not covered during an earlier committee meeting, data-related reports, status of Spiny Lobster Amendment 13, protected resources updates, update on the status of the of the Commercial Electronic Logbook Program, and the status of the Marine Recreational Information Program (MRIP) conversions for recreational fishing estimates. The Council will discuss and take action as necessary.

The Council will review any Exempted Fishing Permits received as necessary.

The Council will also receive an update on the Marine Resources Education Program.

The Council will receive committee reports from the Snapper Grouper, Mackerel Cobia, Information and Education, Habitat, SEDAR, AP Selection, Dolphin Wahoo, Committee of the Whole, SOPPs, and Executive Finance Committees, and take action as appropriate.

The Council will receive agency and liaison reports; and discuss other business and upcoming meetings and take action as necessary. Documents regarding these issues are available from the Council office (see ADDRESSES).

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: February 7, 2019.
Tracey L. Thompson,
Acting Deputy Director, Office of Sustainable Fisheries, National Marine Fisheries Service.

[FR Doc. 2019-02037 Filed 2-11-19; 8:45 am]

BILLING CODE 3510-22-P